DEPARTMENT OF HEALTH AND HUMAN SERVICES

Centers for Disease Control and Prevention

Meeting of the Lead Exposure and Prevention Advisory Committee

AGENCY: Centers for Disease Control and Prevention (CDC), Department of Health and Human Services (HHS).

ACTION: Notice of meeting.

SUMMARY: In accordance with the Federal Advisory Committee Act, the Centers for Disease Control and Prevention announces the following meeting for the Lead Exposure and Prevention Advisory Committee (LEPAC). This virtual meeting is open to the public. Advance registration by December 4, 2024, is needed to receive the information to join the meeting. The registration link is provided in the addresses section below.

DATES: The meeting will be held on December 11, 2024 from 11 a.m. to 5 p.m., EST.

ADDRESSES: Register in advance https://events.gcc.teams.microsoft.com/event/0e538aa3-bc82-43e9-89ee-d997b498cfe6@9ce70869-60db-44fd-abe8-d2767077fc8f to receive information to join the meeting.

FOR FURTHER INFORMATION CONTACT: Paul Allwood, Ph.D., M.P.H., Designated Federal Officer, National Center for Environmental Health, Centers for Disease Control and Prevention, 4770 Buford Highway, Atlanta, Georgia 30341, Telephone: 770-488-6774; Email: LEPAC@cdc.gov.

SUPPLEMENTARY INFORMATION:

Background: The Lead Exposure and Prevention Advisory Committee was established under Section 2203 of Public Law 114-322, the Water Infrastructure Improvements for the Nation Act; 42 U.S.C. 300j-21, Registry for Lead Exposure and Prevention Advisory Committee.

Purpose: The LEPAC is charged with providing advice and guidance to the Secretary, Department of Health and Human Services (HHS), and the Director, CDC and Administrator, ATSDR, on (1) reviewing Federal programs and services available to individual communities exposed to lead; (2) reviewing current research on lead exposure to identify additional research needs; (3) reviewing and identifying best practices, or the need for best practices regarding lead screening and the prevention of lead poisoning; (4) identifying effective services, including services relating to healthcare, education, and nutrition for individuals and communities affected by lead exposure and lead poisoning, including in consultation with, as appropriate, the lead exposure registry as established in Section 2203(b) of Public Law 114-322; and (5) undertaking any other review or activities that the Secretary determines to be appropriate.

Matters to be Considered: The agenda will include presentations and discussions on the following topics: vote on the 2023 annual LEPAC report, report from the Preventing Lead Exposure in Adults workgroup, lead related updates from the LEPAC members, local perspective on improving blood lead testing, blood lead testing strategies. Agenda items are subject to change as priorities dictate.

Public Participation

Oral Public Comment: The public comment period is scheduled on December 11, 2024, from 12:30 p.m. until 12:50 p.m., EST. Individuals wishing to make a comment during the public comment period, please email your name, organization, and phone number by November 25, 2024, to LEPAC@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-24925 Filed 10-24-24; 8:45 am]

BILLING CODE 4163-18-P